DEPARTMENT OF THE TREASURY

Office of Foreign Assets Control

Actions Taken Pursuant to Executive Order 13382 Related to the Islamic Republic of Iran Shipping Lines (IRISL)

AGENCY: Office of Foreign Assets Control, Treasury.

ACTION: Notice.

The Treasury Department's Office of Foreign Assets Control (“OFAC”) is publishing the name of one vessel identified as property blocked because of its connection to the Islamic Republic of Iran Shipping Lines (IRISL) and is updating the entries on OFAC's list of Specially Designated Nationals and Blocked Persons of 14 already-blocked vessels to identify new names and/or other information.

DATES: The identification and updates made by the Director of OFAC, pursuant to Executive Order 13382, of the 15 vessels in this notice was effective on October 27, 2011.

FOR FURTHER INFORMATION CONTACT: Assistant Director, Sanctions Compliance & Evaluation, tel.: (202) 622-2490, Office of Foreign Assets Control; Assistant Director for Policy, tel.: (202) 622-4855, Office of Foreign Assets Control; or Chief Counsel (Foreign Assets Control), tel.: 202/622-2410, Office of the General Counsel, Department of the Treasury, Washington, DC 20220.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On October 27, 2011, the Director of OFAC identified one vessel as property of IRISL, and updated the entries on OFAC's list of Specially Designated Nationals and Blocked Persons of 14 already-blocked IRISL vessels to identify new names or other information given to those vessels. Banks are instructed to reject any funds transfer referencing a blocked vessel and must notify OFAC, via facsimile with a copy of the payment instructions that funds have been returned to the remitter due to the possible involvement of a SDN vessel in the underlying transaction.

Newly Identified Vessel

IRAN SHAHR-E-KORD Container Ship 29,870DWT 23,200GRT Iran flag (IRISL); Vessel Registration Identification IMO 9270684 (Iran) (vessel) [NPWMD]

Already-Blocked Vessels With New Information

AZALEA (f.k.a. IRAN OCEAN CANDLE; f.k.a. LANTANA; f.k.a. OCEAN CANDLE) General Cargo 23,176DWT 16,694GRT Barbados flag (IRISL); Vessel Registration Identification IMO 9167253 (Barbados) (vessel) [NPWMD]

BEGONIA (f.k.a. IRAN PRETTY SEA (KHUZESTAN); f.k.a. LAVENDER; f.k.a. PRETTY SEA) General Cargo 23,116DWT 16,694GRT Barbados flag (IRISL); Vessel Registration Identification IMO 9167277 (Barbados) (vessel) [NPWMD]

CAMELLIA (f.k.a. IRAN SEA BLOOM; f.k.a. LODESTAR; f.k.a. SEA BLOOM) General Cargo 23,176DWT 16,694GRT Cyprus flag (IRISL); Vessel Registration Identification IMO 9167291 (Cyprus) (vessel) [NPWMD]

CLOVER (f.k.a. BRILLIANCE; f.k.a. IRAN BRILLIANCE; f.k.a. MULBERRY) General Cargo 24,065DWT 16,621GRT Cyprus flag (IRISL); Vessel Registration Identification IMO 9051636 (Cyprus) (vessel) [NPWMD]

DIANTHE (f.k.a. HORSHAM; f.k.a. IRAN BAM) Bulk Carrier 73,664DWT 40,166GRT Barbados flag (IRISL); Vessel Registration Identification IMO 9323833 (Barbados) (vessel) [NPWMD]

EGLANTINE (f.k.a. BLUEBELL; f.k.a. IRAN GILAN) Bulk Carrier 63,400DWT 39,424GRT Cyprus flag (IRISL); Vessel Registration Identification IMO 9193202 (Cyprus) (vessel) [NPWMD]

FILBERT (f.k.a. GRACEFUL) Bulk Carrier 76,000DWT 41,226GRT Cyprus flag (IRISL); Vessel Registration Identification IMO 9369722 (Cyprus) (vessel) [NPWMD]

GLOXINIA (f.k.a. IRAN SEA STATE; f.k.a. LILIED; f.k.a. SEA STATE) General Cargo 23,176DWT 16,694GRT Barbados flag (IRISL); Vessel Registration Identification IMO 9167265 (Barbados) (vessel) [NPWMD]

MAGNOLIA (f.k.a. LIMNETIC; f.k.a. SEA FLOWER) General Cargo 23,176DWT 16,694GRT Cyprus flag (IRISL); Vessel Registration Identification IMO 9167289 (Cyprus) (vessel) [NPWMD]

MAHSAN (f.k.a. GOLESTAN; f.k.a. IRAN GOLESTAN) Bulk Carrier 72,162DWT 39,517GRT Malta flag (IRISL); Vessel Registration Identification IMO 9226944 (Malta) (vessel) [NPWMD]

PARIN (f.k.a. IRAN KABEER) General Cargo 5,885DWT 4,991GRT Iran flag (IRISL); Vessel Registration Identification IMO 9076478 (Iran) (vessel) [NPWMD]

TARADIS (f.k.a. IRAN DARYA) General Cargo 3,850DWT 2,842GRT Iran flag (IRISL); Vessel Registration Identification IMO 9245304 (Iran) (vessel) [NPWMD]

VALERIAN (f.k.a. IRAN BRAVE; f.k.a. MARGRAVE) General Cargo 22,950DWT 16,620GRT Cyprus flag (IRISL); Vessel Registration Identification IMO 9051650 (Cyprus) (vessel) [NPWMD]

ZARSAN (f.k.a. IRAN MAZANDARAN; f.k.a. MAZANDARAN) Bulk Carrier 72,642DWT 39,424GRT Malta flag (IRISL); Vessel Registration Identification IMO 9193197 (Malta) (vessel) [NPWMD]

Dated: November 7, 2011.
Adam J. Szubin,
Director, Office of Foreign Assets Control.

[FR Doc. 2011-30121 Filed 11-22-11; 8:45 am]

BILLING CODE 4810-AL-P